DEPARTMENT OF VETERANS AFFAIRS

[OMB Control No. 2900-0865]

Agency Information Collection Activity Under OMB Review: Certification Requirements for Funeral Honors Providers

AGENCY: National Cemetery Administration, Department of Veterans Affairs.

ACTION: Notice.

SUMMARY: In compliance with the Paperwork Reduction Act (PRA) of 1995, this notice announces that the National Cemetery Administration, Department of Veterans Affairs, will submit the collection of information abstracted below to the Office of Management and Budget (OMB) for review and comment. The PRA submission describes the nature of the information collection and its expected cost and burden, and it includes the actual data collection instrument.

DATES: Comments and recommendations for the proposed information collection should be sent by July 14, 2025.

ADDRESSES: To submit comments and recommendations for the proposed information collection, please type the following link into your browser: www.reginfo.gov/public/do/PRAMain, select “Currently under Review—Open for Public Comments”, then search the list for the information collection by Title or “OMB Control No. 2900-0865.”

FOR FURTHER INFORMATION CONTACT: VA PRA information: Dorothy Glasgow, 202-461-1084, VAPRA@va.gov.

SUPPLEMENTARY INFORMATION:

Title: VA Form 40-10190, Funeral Honors Providers Certification Form.

OMB Control Number: 2900-0865 https://www.reginfo.gov/public/do/PRASearch.

Type of Review: Revision of a currently approved collection.

Abstract: This information (VA Form 40-10190) is needed to ensure that funeral honors activities performed on VA property maintain the honor and dignity of the national cemetery and do not negatively impact the safety of cemetery visitors.

An agency may not conduct or sponsor, and a person is not required to respond to a collection of information unless it displays a currently valid OMB control number.

The burden decreased since the previous approval due to a decrease in the number of respondents and responses. The number of respondents declined to 303 from the previous approval of 380 respondents in 2022. Due to fewer respondents, the cost to respondents declined from $887 in 2022 to an estimated $792 resulting in $95 in respondent cost savings. The cost to the Federal Government decreased due to the annual responses and printing cost declining since the previous approval.

The Federal Register Notice with a 60-day comment period soliciting comments on this collection of information was published at 90 FR 15298, April 09, 2025.

Affected Public: Individuals or Households.

Estimated Annual Burden: 25 hours.

Estimated Average Burden per Respondent: 5 minutes.

Frequency of Response: One time.

Estimated Number of Respondents: 303.

Authority: 44 U.S.C. 3501 et seq.

Dorothy Glasgow,
Acting, VA PRA Clearance Officer, Office of Enterprise and Integration, Data Governance Analytics, Department of Veterans Affairs.

[FR Doc. 2025-10819 Filed 6-12-25; 8:45 am]

BILLING CODE 8320-01-P